DEPARTMENT OF JUSTICE

Notice of Lodging of Proposed Third Amendment to Consent Decree Under the Clean Water Act

On June 5, 2013, the Department of Justice lodged a proposed Third Amendment to 2006 Consent Decree with the United States District Court for the Southern District of Indiana in the lawsuit entitled United States and State of Indiana v. City of Indianapolis, Indiana, Civil Action No. 1:06-cv-01456.

On December 19, 2006, the District Court had approved and entered a Consent Decree among the United States, the State of Indiana, and the City of Indianapolis, Indiana, which resolved various alleged violations of the Clean Water Act. The Consent Decree obligated the City of Indianapolis to implement certain combined sewer overflow control measures in accordance with a Long Term Control Plan. Subsequent Consent Decree Amendments refined these obligations. In 2011, the City's wastewater system was sold to CWA Authority, Inc., an Indiana nonprofit corporation. The proposed Third Amendment to 2006 Consent Decree extends the City's obligations under the Consent Decree to CWA Authority.

The publication of this notice opens a period for public comment on the proposed Third Amendment to 2006 Consent Decree. Comments should be addressed to the Acting Assistant Attorney General, Environment and Natural Resources Division, and should refer to United States and State of Indiana v. City of Indianapolis, Indiana, D.J. Ref. No. 90-5-1-1-07292. All comments must be submitted no later than 30 days after the publication date of this notice. Comments may be submitted either by email or by mail:

To submit comments: | Send them to:
By email | pubcomment-ees.enrd@usdoj.gov.
By mail | Assistant Attorney General U.S. DOJ—ENRD P.O. Box 7611 Washington, D.C. 20044-7611.

During the public comment period, the proposed Third Amendment to 2006 Consent Decree may be examined and downloaded at this Justice Department Web site: http://www.usdoj.gov/enrd/Consent_Decrees.html. We will provide a paper copy of the proposed Third Amendment to 2006 Consent Decree upon written request and payment of reproduction costs. Please mail your request and payment to: Consent Decree Library, U.S. DOJ—ENRD, P.O. Box 7611, Washington, DC 20044-7611.

Please enclose a check or money order for $3.50 (25 cents per page reproduction cost) payable to the United States Treasury.

Maureen M. Katz,
Assistant Chief, Environmental Enforcement Section, Environment and Natural Resources Division.

[FR Doc. 2013-13874 Filed 6-11-13; 8:45 am]

BILLING CODE 4410-15-P